Proclamation 7654 of March 18, 2003

Greek Independence Day: A National Day of Celebration of Greek and American Democracy, 2003

By the President of the United States of America

A Proclamation

After nearly 400 years of rule by the Ottomans, Greece declared its independence on March 25, 1821. Long before that, ancient Athenians created a Greek culture that valued human liberty and dignity, and modern Greeks have demonstrated that preserving freedom is a powerful motivating force. Today, on Greek Independence Day, we recognize the ancient Greek influence in framing our own Constitution and celebrate the Greek-American heritage that continues to strengthen our communities and enrich our society.

Bound by history, mutual respect, and common ideals, America and Greece have been firm allies in the great struggles for liberty. Our countries fought together in every major twentieth-century war, and today, we remain united in the war against terror that threatens the future of every nation. We are working together to achieve peace and prosperity in the Balkans and southeastern Mediterranean. As the current president of the European Union, Greece is also playing a critical role in our efforts to confront many other global problems that affect our nations and our world.

Our commitment to the friendship between our two nations has grown from strong bonds of tradition and shared fundamental values. On Greek Independence Day, I encourage all Americans to recognize the countless contributions Greek Americans have made to our country. Embodying the independence and creativity that have made our country strong, their proud history is a source of inspiration for our Nation and our world.

NOW, THEREFORE, I, GEORGE W. BUSH, President of the United States of America, by virtue of the authority vested in me by the Constitution and laws of the United States, do hereby proclaim March 25, 2003, as Greek Independence Day: A National Day of Celebration of Greek and American Democracy. I call upon all the people of the United States to observe this day with appropriate ceremonies and activities.

IN WITNESS WHEREOF, I have hereunto set my hand this eighteenth day of March, in the year of our Lord two thousand three, and of the Independence of the United States of America the two hundred and twenty-seventh.

B

[FR Doc. 03-6964

Filed 3-20-03; 8:45 am]

Billing code 3195-01-P